DEPARTMENT OF STATE

[Public Notice 5957]

Culturally Significant Objects Imported for Exhibition Determinations: “Objects for Water: H2O=Life”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Objects for Water: H2O=Life,” imported from abroad for temporary exhibition within the United States, are of cultural significance. The objects are imported pursuant to loan agreements with the foreign owner or custodian. I also determine that the exhibition or display of the exhibit objects at the American Museum of Natural History, New York, NY, from on or about November 3, 2007, until on or about May 26, 2008; San Diego Natural History Museum, San Diego, CA, from on or about July 19, 2008, until on or about November 30, 2008; Science Museum of Minnesota, St. Paul, MN, from on or about January 17, 2009, until on or about April 26, 2009; The Field Museum, Chicago, IL, from on or about June 12, 2009, until on or about September 20, 2009; Great Lakes Science Center, Cleveland, OH, from on or about November 14, 2009, until on or about April 11, 2010, and at possible additional exhibitions or venues yet to be determined, is in the national interest. Public Notice of these Determinations is ordered to be published in the Federal Register.

FOR FURTHER INFORMATION CONTACT: For further information, including a list of the exhibit objects, contact Julie Simpson, Attorney-Adviser, Office of the Legal Adviser, U.S. Department of State (telephone: (202-453-8050). The address is U.S. Department of State, SA-44, 301 4th Street, SW., Room 700, Washington, DC 20547-0001.

Dated: October 5, 2007.
C. Miller Crouch,
Principal Deputy Assistant Secretary for Educational and Cultural Affairs, Department of State.

[FR Doc. E7-20161 Filed 10-11-07; 8:45 am]

BILLING CODE 4710-05-P